DEPARTMENT OF HEALTH AND HUMAN SERVICES

National Institutes of Health

National Institute on Alcohol Abuse and Alcoholism; Amended Notice of Meeting

Notice is hereby given of a change in the meeting of the National Advisory Council on Alcohol Abuse and Alcoholism, February 9, 2023, 11:00 a.m. to February 9, 2023, 5:30 p.m., National Institute on Alcohol Abuse and Alcoholism, 6700B Rockledge Drive, Bethesda, MD 20817, which was published in the Federal Register on November 09, 2022, FR Doc. No. 2022-24401, 87 FR 67703.

This notice is being amended to change the Contact Person to Ranga V. Srinivas, Ph.D., Acting Executive Secretary, National Advisory Council, Office of Extramural Activities, National Institute on Alcohol Abuse and Alcoholism, National Institutes of Health, 6700 B Rockledge Drive, Room 2114, MSC 6902, Bethesda, MD 20892, (301) 451-2067, srinivar@mail.nih.gov. The meeting is partially Closed to the public.

Dated: January 19, 2023.
Melanie J. Pantoja,
Program Analyst, Office of Federal Advisory Committee Policy.

[FR Doc. 2023-01306 Filed 1-23-23; 8:45 am]

BILLING CODE 4140-01-P